DEPARTMENT OF DEFENSE

Office of the Secretary

[Transmittal No. 25-0T]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-0T.

Dated: January 21, 2026.
Stephanie J. Bost,
Alternate OSD Federal Register Liaison Officer, Department of Defense.

BILLING CODE 6001-FR-P

BILLING CODE 6001-FR-C

Transmittal No. 25-0T

REPORT OF ENHANCEMENT OR UPGRADE OF SENSITIVITY OF TECHNOLOGY OR CAPABILITY (SEC. 36(B)(5)(C), AECA)

(i) Prospective Purchaser: Government of Japan

(ii) Sec. 36(b)(1), AECA Transmittal No.: 15-62

Date: November 19, 2015

Military Department: Air Force

(iii) Description: On November 19, 2015, Congress was notified by congressional certification transmittal number 15-62 of the possible sale, under Section 36(b)(1) of the Arms Export Control Act, of three (3) RQ-4 Block 30 (I) Global Hawk Remotely Piloted Aircraft with Integrated Sensor Suite (EISS); eight (8) Kearfott Inertial Navigation System/Global Positioning System (INS/GPS) units (2 per aircraft with 2 spares); and eight (8) LN-251 INS/GPS units (2 per aircraft with 2 spares). Also included were operational-level sensor and aircraft test equipment, ground support equipment, operational flight test support, communications equipment, spare and repair parts, personnel training, publications and technical data, United States (U.S.) Government and contractor technical and logistics support services, and other related elements of logistics support. The total estimated case value was $1.2 billion. Major Defense Equipment (MDE) constituted $689 million of this total.

On April 4, 2016, Congress was notified by congressional certification transmittal number 0J-16 of the inclusion of two Ground Control Elements (GCE). The GCEs were not enumerated as MDE in the original notification of the Global Hawk RPA system. The total cost of the new MDE items was $31 million, increasing the total estimated MDE value to $720 million. The total estimated case value remained $1.2 billion.

On April 4, 2022, Congress was notified by congressional certification transmittal number 0C-22 of the inclusion of the following additional MDE items: five (5) Kearfott INS/GPS; and two (2) LN-251 INS/GPS. Also included was hardware and software integration support. The total estimated MDE value remained $720 million. The total estimated case value remained $1.2 billion.

This transmittal notifies the inclusion of the following non-MDE items: Contractor Logistics Support (CLS) services; the Joint Mission Planning System (JMPS); classified and unclassified software delivery and support; maps, publications, and technical documentation; transportation support; and other related elements of logistics and program support. The estimated total value of the new items is $1.61 billion. The estimated non-MDE value will increase by $1.61 billion to $2.09 billion. The estimated MDE value will remain at $720 million. The total case value will increase by $1.61 billion, resulting in a revised estimated total case value of $2.81 billion.

(iv) Significance: This proposed sale will significantly enhance Japan's intelligence, surveillance, and reconnaissance (ISR) capabilities and help ensure Japan is able to continue to monitor and deter regional threats.

(v) Justification: This proposed sale will support the foreign policy goals and national security objectives of the U.S.by improving the security of a major ally that is a force for political stability and economic progress in the Indo-Pacific region.

(vi) Sensitivity of Technology:

The Sensitivity of Technology Statement contained in the original notification applies to other items reported here.

The highest level of classification of defense articles, components, and services included in this potential sale is SECRET.

(vii) Date Report Delivered to Congress: June 6, 2025

[FR Doc. 2026-01343 Filed 1-23-26; 8:45 am]

BILLING CODE 6001-FR-P